DEPARTMENT OF LABOR

Employment and Training Administration

[TA-W-39,219]

Supreme Machined Products, Inc., Spring Lake, Michigan; Notice of Termination of Investigation

Pursuant to section 221 of the Trade Act of 1974, an investigation was initiated on May 7, 2001, in response to a worker petition which was filed by the company on behalf of workers at Supreme Machined Products, Inc., Spring Lake, Michigan.

The petitioner has requested that the petition be withdrawn. Consequently, further investigation in this case would serve no purpose, and the investigation has been terminated.

Signed in Washington, DC this 30th day of July, 2001.
Linda G. Poole,
Certifying Officer, Division of Trade Adjustment Assistance.

[FR Doc. 01-20475 Filed 8-14-01 8:45 am]

BILLING CODE 4510-30-M